DEPARTMENT OF THE INTERIOR

Bureau of Land Management

[LLNM930000.L51010000.ER0000.LVRWG16G1190.16X; NMNM114507]

Notice of Intent To Prepare an Environmental Impact Statement and Resource Management Plan Amendment for the Verde Transmission Project in New Mexico

AGENCY: Bureau of Land Management, Interior.

ACTION: Notice.

SUMMARY: In compliance with the National Environmental Policy Act of 1969, as amended (NEPA), the Federal Land Policy and Management Act of 1976, as amended, and the Bureau of Land Management's (BLM's) land use planning regulations, the BLM announces its intent to prepare an Environmental Impact Statement (EIS) evaluating the proposed 33-mile, 345-kilovolt (kV) Verde Transmission Project and potential amendment to the Taos Resource Management Plan (RMP) pursuant to the BLM's land use planning regulations. The BLM is the lead agency in the development of the EIS and will work in cooperation with the Bureau of Indian Affairs (BIA), the U.S. Army Corps of Engineers (USCOE), and the National Park Service (NPS). By this notice, the BLM is announcing the beginning of the scoping process to solicit public comments and identify issues on the proposed transmission line and a potential plan amendment.

DATES: Comments may be submitted in writing until December 5, 2016. The dates and locations of any scoping meetings will be announced at least 15 days in advance through local news media, newspapers, and the BLM Web site at: http://www.blm.gov/nm/verde. In order to be included in the analysis, all comments must be received prior to the close of the 60-day scoping period or 15 days after the last public meeting, whichever is later. Additional opportunities for public participation will be provided as appropriate.

ADDRESSES: You may submit comments or resource information by any of the following methods:

• Web site: http://www.blm.gov/nm/verde

• Email: BLM_NM_Verde@blm.gov.

• Fax: (505) 954-2136.

• Mail: Bureau of Land Management, New Mexico State Office, Verde Transmission Project, P.O. Box 27115, Santa Fe, NM 87502-0115.

Documents pertinent to the right-of-way (ROW) application for the proposed transmission line project may be examined at: Bureau of Land Management, New Mexico State Office, Public Room, 301 Dinosaur Trail, Santa Fe, NM 87508, and the BLM's Taos Field Office, 226 Cruz Alta Road, Taos, NM 87571-5983.

FOR FURTHER INFORMATION CONTACT: For further information and/or to have your name added to the project mailing list, contact Adrian Garcia, BLM Project Manager, Verde Transmission Project, at the BLM New Mexico State Office, P.O. Box 27115, Santa Fe, NM 87502-0115, or by email at BLM_NM_Verde@blm.gov. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: Verde Transmission, LLC (Applicant) has submitted an application to the BLM for a right-of-way (ROW) to construct, operate, maintain, and eventually decommission a 345-kV overhead transmission line that would connect the existing Public Service Company of New Mexico (PNM) Ojo Substation in southern Rio Arriba County to the existing Norton Substation in Santa Fe County, New Mexico. The proposed line would cross approximately 10 miles of BLM land, 15 miles of tribal land, and 8 miles of private land. The permanent ROW requested for the project would be 150 feet wide if approved. Since the proposed transmission project would not be consistent with the existing visual resource management classifications of the area, as part of its review of the ROW application the BLM is also evaluating potential amendments to the visual resource classifications in the Taos Resource Management Plan.

The purpose of the public scoping process is to determine relevant issues that will influence the scope of the environmental analysis, including alternatives, and guide the planning process. Preliminary issues for analysis in the forthcoming EIS and the potential plan amendment have been identified by BLM personnel. The issues specific to the proposed transmission project include potential impacts to cultural, visual, and wildlife resources; the Old Spanish Trail National Historic Trail and the El Camino Real National Historical Trail; livestock grazing; opportunities for recreation; and socioeconomic impacts. Issues specific to the potential RMP amendment include a possible change to the visual resource management classification of the project area, as prescribed by the Taos RMP, which was originally designed to limit visual intrusions that create a contrast with the existing visual quality of the area.

If the ROW application or plan amendment is approved, the BLM would identify, analyze, and require mitigation, as appropriate, to address the reasonably foreseeable impacts to resources. Mitigation may include avoidance, minimization, rectification, reduction, or elimination over time, and compensatory mitigation. These potential measures may be considered at multiple scales, including the landscape-scale. You may submit comments on issues and planning criteria in writing to the BLM at any public scoping meeting, or you may submit them to the BLM using one of the methods listed in the ADDRESSES section above. To be most helpful, you must submit comments by the close of the 60-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will also consult with Indian tribes on a government-to-government basis in accordance with Executive Order 13175 and other policies. Tribal concerns, including impacts on Indian trust assets and potential impacts to cultural resources, will be given due consideration. Federal, State, and local agencies, along with tribes and other stakeholders that may be interested in or affected by the proposed action, are invited to participate in the scoping process and, if eligible, may request or be requested by the BLM to participate in the development of the environmental analysis as a cooperating agency.

As part of the scoping process, the BLM will evaluate the issues to be addressed in the EIS and proposed plan amendment. Those issues will be placed into one of three categories:

1. Issues to be resolved in the EIS and plan amendment;

2. Issues to be resolved through policy or administrative action; or

3. Issues beyond the scope of this EIS and plan amendment.

The BLM will provide an explanation in the draft EIS/draft RMP amendment as to why an issue was placed in category two or three. The public is also encouraged to help identify any management questions and concerns that should be addressed in the EIS and plan amendment. The BLM will work collaboratively with interested parties to identify the management decisions that are best suited to local, regional, and national needs and concerns.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM will use an interdisciplinary approach to develop the EIS and RMP amendment in order to consider the variety of resource issues and concerns identified. Specialists with expertise in the following disciplines will be involved in the planning process: Cultural resources, outdoor recreation, rangeland management, realty, socioeconomics, visual resources, and biology.

Authority: Authority: 40 CFR 1501.7 and 43 CFR 1610.2

Amy Lueders,
State Director.

[FR Doc. 2016-24224 Filed 10-5-16; 8:45 am]

BILLING CODE 4310-FB-P